DEPARTMENT OF ENERGY

Federal Energy Regulatory Commission

[Docket No. PR01-4-000]

Southeastern Natural Gas Company; Notice of Rate Election

January 4, 2001.

Take notice that on November 24, 2000, Southeastern Natural Gas Company (Southeastern), a local distribution company, filed, pursuant to Section 284.123(b)(ii), an election to use rates contained in its state transportation rate schedule for comparable services under its Section 284.224 blanket transportation certificate. Southeastern states that it has no current interstate customers, but would like to retain authorization to offer such services in the future at approved rates.

Southeastern included a copy of its October 6, 2000 filing with the Ohio Public Utilities Commission, in which the requested maximum rate for firm and interruptible intrastate transportation is $0.40 per Ccf.

Pursuant to Section 284.123(b)(2)(ii), if the Commission does not act within 150 days of the filing date of Southeastern's Petition, Southeastern's rates for firm and interruptible storage services will be deemed to be fair and equitable. The Commission may within such 150 day period extend the time for action or institute a proceeding in which all interested parties will be afforded an opportunity for written comments and the oral presentation of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motion must be filed with the Secretary of the Commission on or before January 19, 2001. This petition for rate approval is on file with the Commission and is available for public inspection. This filing may be viewed on the web at http://www.ferc.fed.us/online/rims.htm (call 202-208-2222 for assistance). Comments and protests may be filed electronically via the internet in lieu of paper. See, 18 CFR 385.200(a)(1)(iii) and the instruction on the Commission's web site at http://www.ferc.fed.us.efi/doorbell.htm.

David P. Boergers,
Secretary.

[FR Doc. 01-642 Filed 1-9-01; 8:45 am]

BILLING CODE 6717-01-M